DEPARTMENT OF TRANSPORTATION

Federal Transit Administration

Limitation on Claims Against Proposed Public Transportation Projects

AGENCY: Federal Transit Administration (FTA), DOT.

ACTION: Notice.

SUMMARY: This notice announces final environmental actions taken by the Federal Transit Administration (FTA) for projects in the following locations: Mesa, AZ; Azusa, CA; San Francisco, CA; and New York, NY. The purpose of this notice is to announce publicly the environmental decisions by FTA on the subject projects and to activate the limitation on any claims that may challenge these final environmental actions.

DATES: By this notice, FTA is advising the public of final agency actions subject to Section 139(l) of Title 23, United States Code (U.S.C.). A claim seeking judicial review of the FTA actions announced herein for the listed public transportation project will be barred unless the claim is filed on or before June 2, 2014.

FOR FURTHER INFORMATION CONTACT: Nancy-Ellen Zusman, Assistant Chief Counsel, Office of Chief Counsel, (312) 353-2577 or Terence Plaskon, Environmental Protection Specialist, Office of Human and Natural Environment, (202) 366-0442. FTA is located at 1200 New Jersey Avenue SE., Washington, DC 20590. Office hours are from 9:00 a.m. to 5:30 p.m., Monday through Friday, except Federal holidays.

SUPPLEMENTARY INFORMATION: Notice is hereby given that FTA has taken final agency actions by issuing certain approvals for the public transportation projects listed below. The actions on the projects, as well as the laws under which such actions were taken, are described in the documentation issued in connection with the project to comply with the National Environmental Policy Act (NEPA) and in other documents in the FTA administrative record for the projects. Interested parties may contact either the project sponsor or the relevant FTA Regional Office for more information on the project. Contact information for FTA's Regional Offices may be found at http://www.fta.dot.gov.

This notice applies to all FTA decisions on the listed projects as of the issuance date of this notice and all laws under which such actions were taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period for challenges of project decisions subject to previous notices published in the Federal Register. The projects and actions that are the subject of this notice are:

1. Project name and location: Gilbert Road Light Rail Transit Extension, Mesa, AZ. Project sponsor: Valley Metro. Project description: The proposed project will construct a 1.9-mile light rail extension to the region's light rail system from the future eastern terminus near the intersection of Main Street/Mesa Drive (part of the Central Mesa Extension project currently under construction) east to the intersection of Main Street/Gilbert Road, in Mesa. Valley Metro will construct two stations and a new park-and-ride facility near the Main Street/Gilbert Road station. Final agency actions: Section 4(f) de minimis impact determination; Section 106 finding of no adverse effect; project-level air quality conformity; and Finding of No Significant Impact (FONSI), dated November 15, 2013. Supporting documentation: Environmental Assessment, dated June 2013.

2. Project name and location: Azusa Intermodal Transit Facility Project, Azusa, CA. Project sponsor: Foothill Transit. Project description: The proposed project would construct an approximately 36 to 38-foot tall parking structure with up to 550 parking spaces, including rooftop parking. The proposed project also includes four bus bays for loading and unloading passengers and for layovers. An additional bus bay may include space for an electric bus charging station. The parking structure would be located north of the Azusa Civic Center and adjacent to the planned Los Angeles County Metropolitan Transportation Authority Gold Line (Metro Gold Line) Foothill Extension Azusa-Alameda Station. Final agency actions: No use determination of Section 4(f) resources; Section 106 finding of no adverse effect; project-level air quality conformity; and Finding of No Significant Impact (FONSI), dated November 29, 2013. Supporting documentation: Environmental Assessment, dated July 2013.

3. Project name and location: Van Ness Bus Rapid Transit Project, San Francisco, CA. Project sponsor: San Francisco County Transportation Authority (SFCTA), in coordination with San Francisco Municipal Transportation Agency (SFMTA). Project description: The proposed project would convert two mixed-flow traffic lanes (one southbound and one northbound) into two dedicated transit lanes and implement bus rapid transit (BRT) service on Van Ness Avenue, extending approximately two miles from Mission Street in the south to Lombard Street in the north. The project would also replace the Overhead Contact System support poles/streetlights from Mission Street north to North Point Street and include street-scaping throughout the corridor. The project proposes consolidation and removal of existing bus stops in each direction to reduce dwell time delays and improve service reliability. The project includes nine northbound and nine southbound center lane stations. Final agency actions: No use determination of Section 4(f) resources; Section 106 finding of no adverse effect; project-level air quality conformity; and Record of Decision (ROD), dated December 20, 2013. Supporting documentation: Final Environmental Impact Statement/Environmental Impact Report, dated July 2013.

4. Project name and location: East Side Access, New York, NY. Project sponsor: Metropolitan Transportation Authority (MTA). Project description: The East Side Access Project will connect the Long Island Rail Road's (LIRR) Main and Port Washington Lines in Queens to a new LIRR terminal beneath Grand Central Terminal in Manhattan. The MTA evaluated various project changes in six previous technical memoranda. In Technical Memorandum No. 7, the MTA proposed to extend the use of the 37th Street shafts for tunnel access, including materials and concrete delivery and personnel access, until the second quarter of 2016. This notice only applies to the discrete action taken by FTA at this time, as described below. Nothing in this notice affects FTA's previous decisions, or notice thereof, for this project. Final agency actions: FTA determination that neither a supplemental environmental impact statement nor a supplemental environmental assessment is necessary. Supporting documentation: Technical Memorandum No. 7—37th Street Shaft—Construction Access, dated September 2013.

Lucy Garliauskas,
Associate Administrator Planning and Environment.

[FR Doc. 2013-31395 Filed 12-31-13; 8:45 am]

BILLING CODE P